DEPARTMENT OF COMMERCE

National Oceanic and Atmospheric Administration

[RTID 0648-XA976]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of the Snapper Grouper Advisory Panel (AP) April 21-23, 2021.

DATES: The Snapper Grouper AP will meet from 1:30 p.m. to 4:30 p.m. on April 21; from 9 a.m. to 4 p.m. on April 22, and from 9 a.m. to 12 p.m. on April 23, 2021.

ADDRESSES: The meeting will be held via webinar.

FOR FURTHER INFORMATION CONTACT: Kim Iverson, Public Information Officer, SAFMC; phone: (843) 571-4366 or toll free: (866) SAFMC-10; fax: (843) 769-4520; email: kim.iverson@safmc.net.

SUPPLEMENTARY INFORMATION: The AP meeting is open to the public and will be available via webinar as it occurs. Registration is required. Webinar registration information, a public comment form, and other meeting materials will be posted to the Council's website at: http://safmc.net/safmc-meetings/current-advisory-panel-meetings/ as it becomes available.

The Snapper Grouper AP will discuss and provide recommendations on the following topics: Potential Council actions for yellowtail snapper and snowy grouper in response to recent or upcoming stock assessments; management actions considered for red porgy through Amendment 50 to the Snapper Grouper Fishery Management Plan (FMP); actions considered for greater amberjack through Snapper Grouper Amendment 49; possible approaches to reduce recreational discards; the South Atlantic Research and Monitoring Prioritization Plan for 2022-2027, and other topics as needed. In addition, the AP will provide information to develop a Fishery Performance Report for mutton snapper. The AP will also receive updates on Snapper Grouper Amendment 48 considering modernization of Wreckfish Individual Transferable Quota (ITQ) program and revised objectives for the Snapper Grouper FMP, ongoing and upcoming South Atlantic Southeast Data Assessment and Review (SEDAR) stock assessment projects, the Council's Citizen Science Program initiatives, and other items as needed.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: March 30, 2021.
Tracey L. Thompson,
Acting Deputy Director, Office of Sustainable Fisheries, National Marine Fisheries Service.

[FR Doc. 2021-06834 Filed 4-1-21; 8:45 am]

BILLING CODE 3510-22-P